DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before February 27, 2012. Address written comments to Statutory Import Programs Staff, Room 3720, U.S. Department of Commerce, Washington, DC 20230. Applications may be examined between 8:30 a.m. and 5:00 p.m. at the U.S. Department of Commerce in Room 3720.

Docket Number: 11-061. Applicant: Max Planck Florida Institute, 5353 Parkside Dr., MC19-RE Jupiter, FL 33458. Instrument: Electron Microscope. Manufacturer: FEI Co., Czech Republic. Intended Use: The instrument will be used to construct a digital anatomical atlas of the brain, involving refining the provisional localization of different calcium channel subunits from fluorescence microscopy initially by super resolution STED and then by immunogold freeze-fracture replica labeling. The objectives of the research also include understanding visual perception and the organization of the visual cortex, synapse physiology and mechanisms of synaptic signaling and computation, the molecular mechanism of synaptic function, the cellular organization of cortical circuit function, and the digital anatomy of the brain. Observations made by light microscopy may be required to be corroborated by electron microscopy in order to be accepted for publication. A unique feature of this instrument is the multi-specimen holder that can be tilted more than 45 degrees, which is necessary to observe irregular surfaces of specimens three dimensionally. Justification for Duty-Free Entry: There are no instruments of the same general category manufactured in the United States. Application accepted by Commissioner of Customs: October 19, 2011.

Docket Number: 11-070. Applicant: University of Utah, 201 Presidents Circle, Room 201, Salt Lake City, UT 84112. Instrument: Electron Microscope. Manufacturer: FEI Company, Czech Republic. Intended Use: The instrument will be used to study semiconductor materials and devices, nanophotonic devices, photovoltaic materials, as well as geologic and biological materials. The objectives of the experiments include high contrast, low voltage imaging of beam-sensitive materials at magnifications greater than 100,000X. Justification for Duty-Free Entry: There are no instruments of the same general category manufactured in the United States. Application accepted by Commissioner of Customs: November 28, 2011.

Docket Number: 11-071. Applicant: Texas Tech University, 100 Engineering Center, 9th and Canton, Lubbock, TX 79409-3103. Instrument: Electron Microscope. Manufacturer: Hitachi High-Technologies Corporation, Japan. Intended Use: The instrument will be used to correlate the structural properties with observed physical properties such as magnetic and electronic properties of a variety of materials, from inorganic to organic, which exhibit features which can only be observed with this type of microscope. The research will involve temperature dependence imaging and energy dispersive x-ray analysis. The data collected will be applied to energy storage and conversion, environmental remediation and catalysis. Justification for Duty-Free Entry: There are no instruments of the same general category manufactured in the United States. Application accepted by Commissioner of Customs: December 9, 2011.

Docket Number: 11-073. Applicant: Ball State University, 2000 W University Ave., Muncie, Indiana 47306. Instrument: Electron Microscope. Manufacturer: JEOL Ltd., Japan. Intended Use: The instrument will be used to study the developing nervous system, chemical stressors in freshwater ecosystems, organ development, cells that line blood vessel walls, luminescent thin films, carbon nanotube synthesis, and air purification materials. Tissues that will be examined will include brain, heart, lung, muscle, and cultured cells. Material samples include thin film, nanoparticles and nanotubes. The main objective of the research is to obtain images that the existing technology cannot currently resolve, including resolution at the nanometer level and below. Justification for Duty-Free Entry: There are no instruments of the same general category manufactured in the United States. Application accepted by Commissioner of Customs: January 6, 2012.

Docket Number: 11-075. Applicant: Cleveland State University, 2121 Euclid Ave., Cleveland, OH 44115-2214. Instrument: Electron Microscope. Manufacturer: FEI Co., Czech Republic. Intended Use: The instrument will be used to study superstructures formed by semiconductor and metal nanoparticles. The experiments will include fabrication of self-assembled structures using a hybrid nanofabrication approach, obtaining high resolution imaging of the structures, and optical characterization using high resolution spectroscopy. Justification for Duty-Free Entry: There are no instruments of the same general category manufactured in the United States. Application accepted by Commissioner of Customs: January 5, 2012.

Docket Number: 12-003. Applicant: University of California, Irvine, 4100 Calit2 building, Irvine, CA 92697. Instrument: Electron Microscope. Manufacturer: FEI Co., Czech Republic. Intended Use: The instrument will be used to perform experiments involving imaging and elemental composition determination of semiconductors, metals, ceramics, polymers, etc. Justification for Duty-Free Entry: There are no instruments of the same general category manufactured in the United States. Application accepted by Commissioner of Customs: January 23, 2012.

Dated: January 31, 2012.
Gregory Campbell,
Director, IA Subsidies Enforcement Office.

[FR Doc. 2012-2623 Filed 2-3-12; 8:45 am]

BILLING CODE 3510-DS-P